DEPARTMENT OF THE INTERIOR

Bureau of Reclamation

Agency Information Collection; Renewal of a Currently Approved Information Collection

AGENCY: Bureau of Reclamation, Interior.

ACTION: Notice of renewal and request for comments.

SUMMARY: The Bureau of Reclamation intends to seek an extension of the information collection, with minor revisions, for the Recreation Use Data Report, OMB Control Number 1006-0002. As part of its continuing effort to reduce paperwork and respondent burdens, Reclamation invites other Federal agencies, State, local, or tribal governments that manage recreation sites at Reclamation projects; concessionaires and not-for-profit organizations who operate concessions on Reclamation lands; and the public, to comment on this information collection.

DATES: Submit written comments on this notice by June 25, 2012.

ADDRESSES: Send written comments to the Bureau of Reclamation, Attention: Jerome Jackson (84-53000), P.O. Box 25007, Denver, CO 80225-0007, or directed via email to jljackson@usbr.gov. Please reference OMB No. 1006-0002 in your comments.

You may request copies of the proposed revised application form by writing to the above address or by contacting Jerome Jackson via email at jljackson@usbr.gov.

FOR FURTHER INFORMATION CONTACT: Jerome Jackson at (303) 445-2712.

SUPPLEMENTARY INFORMATION:

I. Abstract

Reclamation collects agency-wide recreation and concession information to fulfill congressional reporting requirements pursuant to current public laws, including the Land and Water Conservation Fund Act (Pub. L. 88-578), the Federal Water Project Recreation Act (Pub. L. 89-72), and the Federal Lands Recreation Enhancement Act (Pub. L. 108-477). In addition, collected information will permit relevant program assessments of resources managed by Reclamation, its recreation managing partners, and/or concessionaires for the purpose of contributing to the implementation of Reclamation's mission. More specifically, the collected information enables Reclamation to (1) Evaluate the effectiveness of program management based on existing recreation and concessionaire resources and facilities, and (2) validate the efficiency of resources for public use within partner managed recreation resources, located on Reclamation project lands in the 17 Western States.

II. Data

OMB Control Number: 1006-0002.

Title: Recreation Use Data Report.

Form Numbers: 7-2534—Part 1, Managing Partners; 7-2535—Part 2, Concessionaires.

Frequency: Annually.

Respondents: State, local, or tribal governments; agencies who manage Reclamation's recreation resources and facilities; and commercial concessions, subconcessionaires, and nonprofit organizations located on Reclamation lands with associated recreation services.

Estimated Total Number of Respondents: 270.

Estimated Number of Responses per Respondent: 1.

Estimated Total Number of Annual Responses: 270.

Estimated Total Annual Burden on Respondents: 136 hours.

Estimate of Burden for Each Form:

Form No. | Burden estimate per form (in minutes) | Annual number of respondents | Annual burden on respondents (in hours)
7-2534 (Part 1, Managing Partners) | 30 | 155 | 78
7-2535 (Part 2, Concessionaires) | 30 | 115 | 58
Total Burden Hours |  |  | 136

III. Request for Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

We will summarize all comments received regarding this notice. We will publish that summary in the Federal Register when the information collection request is submitted to OMB for review and approval.

IV. Public Disclosure

Before including your address, phone number, email address, or other personal identifying information in your comment, you should be aware that your entire comment—including your personal identifying information—may be made publicly available at any time. While you can ask us in your comment to withhold your personal identifying information from public review, we cannot guarantee that we will be able to do so.

Dated: April 18, 2012.
Roseann Gonzales,
Director, Policy and Administration, Denver Office.

[FR Doc. 2012-9921 Filed 4-24-12; 8:45 am]

BILLING CODE 4310-MN-P